DEPARTMENT OF JUSTICE

Drug Enforcement Administration

[Docket No. DEA-571]

Bulk Manufacturer of Controlled Substances Application: Johnson Matthey Pharmaceutical Materials Inc.

ACTION: Notice of application.

DATES: Registered bulk manufacturers of the affected basic classes, and applicants therefore, may file written comments on or objections to the issuance of the proposed registration on or before February 25, 2020.

ADDRESSES: Written comments should be sent to: Drug Enforcement Administration, Attention: DEA Federal Register Representative/DPW, 8701 Morrissette Drive, Springfield, Virginia 22152.

SUPPLEMENTARY INFORMATION:

In accordance with 21 CFR 1301.33(a), this is notice that on October 31, 2019, Johnson Matthey Pharmaceutical Materials Inc., 25 Patton Road, Devens, Massachusetts 01434 applied to be registered as a bulk manufacturer of the following basic classes of controlled substances:

Controlled substance | Drug code | Schedule
Amphetamine | 1100 | II
Methylphenidate | 1724 | II
Nabilone | 7379 | II
Hydrocodone | 9193 | II
Levorphanol | 9220 | II
Alfentanil | 9737 | II
Remifentanil | 9739 | II
Sufentanil | 9740 | II

The company plans to utilize this facility to manufacture small quantities of the listed controlled substances in bulk for distribution to its customers as well as to conduct analytical testing in support of the company's primary manufacturing facility in West Deptford, New Jersey.

Dated: December 17, 2019.
William T. McDermott,
Assistant Administrator.

[FR Doc. 2019-27951 Filed 12-26-19; 8:45 am]

BILLING CODE 4410-09-P